DEPARTMENT OF COMMERCE

National Oceanic and Atmospheric Administration

50 CFR Part 622

[I.D. 022403C]

RIN 0648-AQ70

Fisheries of the Caribbean, Gulf of Mexico, and South Atlantic; Coastal Migratory Pelagic Resources of the Gulf of Mexico and South Atlantic; Reef Fish Resources of the Gulf of Mexico; Charter Vessel and Headboat Permit Moratorium

AGENCY: National Marine Fisheries Service (NMFS), National Oceanic and Atmospheric Administration (NOAA), Commerce.

ACTION: Notice of availability of a corrected amendment; request for comments.

SUMMARY: NMFS has submitted an amendment to correct Amendment 14 to the Fishery Management Plan for the Coastal Migratory Pelagic Resources of the Gulf of Mexico (Amendment 14) and South Atlantic and Amendment 20 to the Fishery Management Plan for the Reef Fish Resources of the Gulf of Mexico (Amendment 20) for review, approval, and implementation by the agency.

Specifically, this amendment will eliminate one eligibility criterion in the final rule implementing Amendment 14 and Amendment 20, which states that the charter vessel/headboat permits for Gulf coastal migratory pelagic fish or Gulf reef fish is limited to the following: An owner of a vessel that had a valid Gulf charter vessel/headboat permit on the effective date of the final rule (July 29, 2002). The corrected amendment also reopens the application process for obtaining Gulf charter vessel/headboat moratorium permits and extends the applicable deadlines; extends the expiration dates of valid or renewable open access permits for these fisheries; and extends the expiration date of the moratorium to account for the delay in implementation.

DATES: Written comments must be received on or before May 5, 2003.

ADDRESSES: Comments must be mailed to Phil Steele, Southeast Regional Office, NMFS, 9721 Executive Center Drive N., St. Petersburg, FL 33702. Comments may also be sent via fax to 727-570-5583. Comments will not be accepted if submitted via e-mail or Internet.

Copies of the corrected amendment, which includes an environmental assessment (EA), a regulatory impact review (RIR), and an Initial Regulatory Flexibility Analysis (IRFA) may be obtained from the Southeast Regional Office, NMFS, 9721 Executive Center Drive N., St. Petersburg, FL 33702; telephone: 727-570-5305; fax: 727-570-5583.

FOR FURTHER INFORMATION CONTACT: Phil Steele, 727-570-5305; fax 727-570-5583; e-mail: Phil.Steele@noaa.gov.

SUPPLEMENTARY INFORMATION: The Magnuson-Stevens Fishery Conservation and Management Act (Magnuson-Stevens Act), as amended by the Sustainable Fisheries Act, requires each Regional Fishery Management Council to submit any fishery management plan or plan amendment to NMFS for review and approval, disapproval, or partial approval. The Magnuson-Stevens Act also requires that NMFS, upon receiving a plan or plan amendment, immediately publish a document in the Federal Register stating that the plan or plan amendment is available for public review and comment.

NMFS promulgated the charter moratorium regulations (67 FR 43558, June 28, 2002) to implement Amendment 14 and Amendment 20. However, after reviewing the administrative record, NMFS determined that the amendments contained an error that did not correctly reflect the actions approved by the Gulf of Mexico Fishery Management Council (Council). Thus, the regulations implementing the amendments also contained this error, and not all persons entitled to receive charter vessel/headboat (for-hire) permits under the moratorium approved by the Council would be able to receive permits under the promulgated regulations. In order to ensure that no qualified participants in the fishery are wrongfully excluded under the moratorium, due to an error in the amendments, and to fully comply with Magnuson-Stevens Act requirements, NMFS prepared this corrected amendment to address this error and, as such, to reflect the actions approved by the Council. Specifically, this corrected amendment will eliminate one eligibility criterion in the final rule which states that the charter vessel/headboat permits for Gulf coastal migratory pelagic fish or Gulf reef fish is limited to the following: An owner of a vessel that had a valid Gulf charter vessel/headboat permit on the effective date of the final rule (July 29, 2002). The corrected amendment also reopens the application process for obtaining Gulf charter vessel/headboat moratorium permits and extends the applicable deadlines; extends the expiration dates of valid or renewable open access permits for these fisheries; and extends the expiration date of the moratorium to account for the delay in implementation.

In order to comply with the procedural requirements of the Magnuson-Stevens Act as stated above, the entire amendment will be submitted for review by the Secretary of Commerce, even though only one specific section of the document will be substantively altered, and if approved, new regulations will be promulgated accordingly from the properly processed amendment. Portions of the document, specifically the environmental and economic analysis required pursuant to other laws, remain in the document to provide clarity for reviewers and facilitate meaningful public comment. These analyses were previously disseminated and subject to public comment in the original amendment package. The majority of the analyses remain valid and unaffected, given that most of the regulatory measures analyzed will be unaltered by the new amendment. As stated above, the changes to the original permit moratorium relate to a single eligibility criterion and the timing of implementation of the moratorium. Where substantive changes were made to the amendment, new analyses describing these effects were conducted for the RIR and IRFA. This information is provided in the RIR and a IRFA that is included as an attachment to the amendment.

In accordance with the Magnuson-Stevens Act, NMFS is evaluating the proposed rule to implement the corrected amendment to determine whether it is consistent with the FMP, the Magnuson-Stevens Act, and other applicable law. If that determination is affirmative, NMFS will publish the proposed rule in the Federal Register for public review and comment.

Comments received by May 5, 2003, whether specifically directed to the FMP or the proposed rule, will be considered by NMFS in its decision to approve, disapprove, or partially approve the FMP. Comments received after that date will not be considered by NMFS in this decision. All comments received by NMFS on the FMP or the proposed rule during their respective comment periods will be addressed in the final rule.

Authority: 16 U.S.C. 1801 et seq.

Dated: February 26, 2003.
Bruce C. Morehead,
Acting Director, Office of Sustainable Fisheries, National Marine Fisheries Service.

[FR Doc. 03-5048 Filed 3-3-03; 8:45 am]

BILLING CODE 3510-22-S